DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than December 6, 2012.

Interested persons are invited to submit written comments regarding the subject matter of the investigations to the Director, Office of Trade Adjustment Assistance, at the address shown below, not later than December 6, 2012.

The petitions filed in this case are available for inspection at the Office of the Director, Office of Trade Adjustment Assistance, Employment and Training Administration, U.S. Department of Labor, Room N-5428, 200 Constitution Avenue NW., Washington, DC 20210.

Signed at Washington, DC this 8th day of November 2012.
Elliott S. Kushner,
Certifying Officer, Office of Trade Adjustment Assistance.

Appendix
[31 TAA petitions instituted between 10/22/12 and 11/2/12]
TA-W | Subject firm (petitioners) | Location | Date of institution | Date of petition
82096 | Thyssenkrupp Access (State/One-Stop) | Roanoke, IL | 10/22/12 | 10/18/12
82097 | Tholstrup Cheese USA Inc. (Workers) | Norton Shores, MI | 10/22/12 | 10/18/12
82098 | Choice Hotels International (State/One-Stop) | Grand Junction, CO | 10/22/12 | 10/18/12
82099 | Air Products & Chemicals (State/One-Stop) | Sparrows Point, MD | 10/22/12 | 10/18/12
82100 | NXP Semiconductor (State/One-Stop) | San Jose, CA | 10/22/12 | 10/18/12
82101 | BT Americas (Company) | EL Segundo, CA | 10/22/12 | 10/15/12
82102 | PPD Development, LLC (Workers) | Austin, TX 78744 and Morrisville, NC 27560 | 10/22/12 | 10/17/12
82103 | American Airlines (Union) | Chicago, IL | 10/22/12 | 10/18/12
82104 | Sauk Technologies (Union) | Saukville, WI | 10/22/12 | 10/18/12
82105 | Thorco Industries, Inc. (State/One-Stop) | Cassville, MO | 10/22/12 | 10/19/12
82106 | Xyratex International, Inc. (Company) | West Sacramento, CA | 10/23/12 | 10/22/12
82107 | Sub Zero and Wolf, Inc. (Workers) | Madison, WI | 10/23/12 | 10/02/12
82108 | Axa Equitable (Workers) | Syracuse, NY | 10/24/12 | 10/23/12
82109 | ArcelorMittal (Union) | Georgetown, SC | 10/24/12 | 10/24/12
82110 | Hewlett-Packard Company (State/One-Stop) | Wayland, MA | 10/25/12 | 10/23/12
82111 | Carolina Precision Plastics (CPP Global) (State/One-Stop) | Stratford, CT | 10/26/12 | 10/25/12
82112 | Rockwell Collins (State/One-Stop) | Cedar Rapids, IA | 10/31/12 | 10/25/12
82113 | SGL Carbon, LLC (Union) | St. Marys, PA | 10/31/12 | 10/19/12
82114 | BRP US Inc. (Company) | Spruce Pine, NC | 10/31/12 | 10/31/12
82115 | Cinch Connectors (State/One-Stop) | Vinita, OK | 10/31/12 | 10/29/12
82116 | Heraeus Kulzer, LLC (Company) | South Bend, IN | 10/31/12 | 10/30/12
82117 | Simple Way Limited Partnership, dba The Rosary Shop (Company) | McMinnville, OR | 10/31/12 | 10/31/12
82118 | Hanson Worldwide LLC (State/One-Stop) | Spokane, WA | 10/31/12 | 10/29/12
82119 | Hewlett-Packard Company (State/One-Stop) | Corvallis, OR | 10/31/12 | 10/23/12
82120 | Welch Allyn Inc. (Workers) | Skaneateles, NY | 11/01/12 | 10/31/12
82121 | Goodyear Tire & Rubber Company (Union) | Gadsden, AL | 11/01/12 | 10/31/12
82122 | Straits Steel and Wire Company (Company) | Ludington, MI | 11/01/12 | 10/31/12
82123 | Medtronic (State/One-Stop) | Mounds View, MN | 11/01/12 | 10/31/12
82124 | Brunswick Corporation Sea Ray Boats (State/One-Stop) | Knoxville, TN | 11/02/12 | 11/01/12
82125 | Honeywell, Inc. (Workers) | Mars Hill, NC | 11/02/12 | 10/24/12
82126 | Covidien (Workers) | Mansfield, MA | 11/02/12 | 11/01/12

[FR Doc. 2012-28615 Filed 11-23-12; 8:45 am]

BILLING CODE 4510-FN-P